DEPARTMENT OF LABOR

Employment and Training Administration

[TA-W-64,970]

Boise Cascade, LLC, White City, OR; Notice of Termination of Investigation

Pursuant to Section 221 of the Trade Act of 1974, as amended, an investigation was initiated on January 22, 2009 in response to a worker petition filed on behalf of workers at Boise Cascade, LLC, White City, Oregon.

The petitioners have requested that the petition be withdrawn. Consequently, the investigation has been terminated.

Signed at Washington, DC, this 26th day of March 2009.
Richard Church,
Certifying Officer, Division of Trade Adjustment Assistance.

[FR Doc. E9-8913 Filed 4-17-09; 8:45 am]

BILLING CODE 4510-FN-P